NATIONAL SCIENCE FOUNDATION

Advisory Panel for Biomolecular Processes; Notice of Meeting

In accordance with the Federal Advisory Committee Act (Pub. L. 92-463, as amended), the National Science Foundation announces the following meeting:

Name: Advisory Panel for Biomolecular Processes—(5138) (Panel A).

Date/Time: Thursday and Friday, May 3-4, 2001, 8:30 a.m.-6 p.m.

Place: National Science Foundation, 4201 Wilson Blvd., Room 310, Arlington, VA.

Type of Meeting: Closed.

Contact Persons: Dr. Hector Flores, Program Director, and Dr. Susan Porter Ridley, Associate Program Manager, Division of Molecular and Cellular Boisciences, Room 655-S, 4201 Wilson Boulevard, Arlington, VA 22230. (703/292-8441).

Purpose of Meeting: To provide advice and recommendations concerning proposals submitted to NSF for financial support.

Agenda: To review and evaluate research proposals submitted to the Metabolic Biochemistry Program as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: March 13, 2001.
Susanne Bolton,
Committee Management Officer.

[FR Doc. 01-6590 Filed 3-15-01; 8:45 am]

BILLING CODE 7555-01-M